ENVIRONMENTAL PROTECTION AGENCY

[EPA-HQ-OPPT-2015-0453; FRL—12008-01-OMS]

Agency Information Collection Activities; Submission to the Office of Management and Budget for Review and Approval; Comment Request; Notification of Chemical Exports Under TSCA Section 12(b) (Renewal)

AGENCY: Environmental Protection Agency (EPA).

ACTION: Notice.

SUMMARY: The Environmental Protection Agency (EPA) has submitted an information collection request (ICR), Notification of Chemical Exports under TSCA Section 12(b) (EPA ICR Number 0795.17, and OMB Control Number 2070-0030) to the Office of Management and Budget (OMB) for review and approval in accordance with the Paperwork Reduction Act. This is a proposed extension of the ICR, which is currently approved through May 31, 2024. Public comments were previously requested via the Federal Register on September 22, 2023 during a 60-day comment period. This notice allows for an additional 30 days for public comments.

DATES: Comments may be submitted on or before July 1, 2024.

ADDRESSES: Submit your comments, referencing Docket ID No. EPA-HQ-OPPT-2015-0453, to EPA online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Office of Program Support (7602M), Office of Chemical Safety and Pollution Prevention, Environmental Protection Agency, 1200 Pennsylvania Ave. NW, Washington, DC 20460; telephone number: (202) 566-1206; email address: sleasman.katherine@epa.gov.

SUPPLEMENTARY INFORMATION: This is a proposed extension of the ICR, which is currently approved through May 31, 2024. An agency may not conduct or sponsor and a person is not required to respond to a collection of information unless it displays a currently valid OMB control number.

Public comments were previously requested via the Federal Register on September 22, 2023 during a 60-day comment period (88 FR 65390). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR covers the information collection activities associated with the reporting and recordkeeping requirements under section 12(b) of the Toxic Substances Control Act (TSCA) which requires any person who exports or intends to export to a foreign country a chemical substance or mixture for which submission of information is required under TSCA sections 4 or 5(b), or for which a rule, action or order has been proposed or promulgated under TSCA sections 5, 6, or 7, shall notify EPA of such export or intent to export. The Agency must, in turn, notify the government of the importing country of the notice and of EPA's regulatory action with respect to the substance.

In implementing TSCA section 12(b), EPA described the notification requirements applicable to persons exporting chemicals, including frequency of notification, covered chemicals, and content of the notification. See 40 CFR part 707, subpart D. In summary, the export notice must include five easily ascertainable items: (1) The name and address of the exporter; (2) The name of the chemical; (3) The country of import, (4) The date of export or intended export; and (5) The section of TSCA under which EPA has taken action (i.e., TSCA sections 4, 5, 6 or 7). There are currently over 1,000 substances or categories of substances that have been regulated or proposed to be regulated under the applicable sections of TSCA. For additional information about export requirements under TSCA, visit our website at https://www.epa.gov/tsca-import-export-requirements.

Form Numbers: 9600-031.

Respondents/affected entities: Entities potentially affected by this ICR include exporters of chemical substances regulated under TSCA which are mostly chemical companies classified under the North American Industrial Classification System (NAICS) codes 325 and 324.

Respondent's obligation to respond: Mandatory under TSCA section 12(b), as implemented by 40 CFR part 707, subpart D.

Estimated number of respondents: 226 (total).

Frequency of response: On occasion.

Total estimated burden: 2,694 hours (per year). Burden is defined at 5 CFR 1320.3(b).

Total estimated cost: $184,690 (per year), which includes $0 annualized capital or operation & maintenance costs.

Changes in the Estimates: There is a decrease of 238 hours in the total estimated respondent burden compared with the ICR currently approved by OMB. This decrease reflects the net result from a decrease in burden caused by assuming 100 percent electronic submissions despite a small increase in burden due to a larger number of respondents compared to the previous ICR. This change is an adjustment to the estimates.

Courtney Kerwin,
Director, Information Engagement Division.

[FR Doc. 2024-11802 Filed 5-29-24; 8:45 am]

BILLING CODE 6560-50-P